DEPARTMENT OF LABOR

Employment and Training Administration

[TA-W-52,070]

Master Gear, South Beloit, IL; Notice of Termination of Investigation

Pursuant to section 221 of the Trade Act of 1974, as amended, an investigation was initiated on June 18, 2003, in response to a worker petition filed on behalf of workers at Master Gear, South Beloit, Illinois.

The petitioning group of workers is covered by an earlier petition filed on May 20, 2003 (TA-W-51,840) that is the subject of an ongoing investigation for which a determination has not yet been issued. Further investigation in this case would duplicate efforts and serve no purpose; therefore the investigation under this petition has been terminated.

Signed at Washington, DC, this 30th day of June, 2003.
Richard Church,
Certifying Officer, Division of Trade Adjustment Assistance.

[FR Doc. 03-18552 Filed 7-21-03; 8:45 am]

BILLING CODE 4510-30-P